EQUAL EMPLOYMENT OPPORTUNITY COMMISSION

SES Performance Review Board—Appointment of Members

AGENCY: U.S. Equal Employment Opportunity Commission.

ACTION: Notice.

SUMMARY: Notice is hereby given of the appointment of members to the Performance Review Board of the Equal Employment Opportunity Commission (EEOC).

FOR FURTHER INFORMATION CONTACT: Kevin L. Richardson, Chief Human Capital Officer, U.S. Equal Employment Opportunity Commission, 131 M Street NE, Washington, DC 20507, (202) 663-4758.

SUPPLEMENTARY INFORMATION: Publication of the Performance Review Board (PRB) membership is required by 5 U.S.C. 4314(c)(4). The PRB reviews and evaluates the initial appraisal of a senior executive's performance by the supervisor, and makes recommendations to the Chair, EEOC, with respect to performance ratings, pay level adjustments, and performance awards.

The following are the names and titles of executives appointed to serve as members of the SES PRB. Designated members will serve a 12-month term, which begins on November 1, 2018.

PRB Chair:

Mr. Carlton Hadden, Director, Office of Federal Operations, U.S. Equal Employment Opportunity Commission

Members:

Ms. Gwendolyn Reams, Associate General Counsel for Litigation Management Services, U.S. Equal Employment Opportunity Commission

Mr. James Neely, Program Manager, Office of Field Programs, U.S. Equal Employment Opportunity Commission

Mr. Kevin Berry, Program Manager, Office of Field Programs, U.S. Equal Employment Opportunity Commission

Mr. Richard Toscano, Director, Equal Employment Opportunity Staff, U.S. Department of Justice

Ms. Carol Miaskoff, Associate Legal Counsel, U.S. Equal Employment Opportunity Commission (Alternate)

Ms. Rosa Viramontes, Program Manager, U.S. Equal Employment Opportunity Commission (Alternate)

Ms. Delner Franklin-Thomas, Program Manager, U.S. Equal Employment Opportunity Commission (Alternate)

By the direction of the Commission.
Dated: September 28, 2018.
Reuben Daniels, Jr.,
Acting Chief Operating Officer.

[FR Doc. 2018-22249 Filed 10-11-18; 8:45 am]

BILLING CODE 6570-01-P